DEPARTMENT OF TRANSPORTATION

Federal Aviation Administration

Notice of Intent to Rule on Request To Release Airport Property at the Northeast Philadelphia Airport (PNE), Philadelphia, PA

AGENCY: Federal Aviation Administration (FAA), DOT.

ACTION: Notice of request to release airport property.

SUMMARY: The FAA proposes to rule and invite public comment on the release of land at the Northeast Philadelphia Airport, Philadelphia, Pennsylvania under the provisions of Section 47125(a) of Title 49 United States Code (U.S.C.).

DATES: Comments must be received on or before May 9, 2011.

ADDRESSES: Comments on this application may be mailed or delivered to the following address: Joseph F. Messina, Divisional Deputy City Solicitor, City of Philadelphia Law Department, Transportation Division, One Parkway, 1515 Arch Street, Philadelphia, PA 19102-1595 and at the FAA Harrisburg Airports District Office: Lori K. Pagnanelli, Manager, Harrisburg Airports District Office, 3905 Hartzdale Dr., Suite 508, Camp Hill, PA 17011.

FOR FURTHER INFORMATION CONTACT: Lori Ledebohm, Community Planner, Harrisburg Airports District Office location listed above.

The request to release property may be reviewed in person at this same location.

SUPPLEMENTARY INFORMATION: The FAA invites public comment on the request to release property at the Northeast Philadelphia Airport under the provisions of Section 47125(a) of Title 49 U.S.C. On March 28, 2011, the FAA determined that the request to release property at the Northeast Philadelphia Airport submitted by the City of Philadelphia (City) met the procedural requirements.

The following is a brief overview of the request:

The City requests the release of real property, totaling 3.5 acres, of aeronautical airport property, to Biagio DeSimone. The land was originally purchased with City funds in 1945. The purpose of the release is to sell the land that was airport property to Biagio DeSimone, the current tenant. The property is located at 11295 E. Roosevelt Boulevard. The Parcel is currently leased to a tenant operating as a dealership and is improved with a 6,225 square foot building being used by the tenant in the operation of its automobile dealership and a gravel parking lot for customers of the dealership. The Parcel is not contiguous to the area being operated as the Northeast Philadelphia Airport. The subject land does not serve an aeronautical purpose and is not needed for airport development, as shown on the Airport Layout Plan. All proceeds from the sale of property are to be used for the capital development of the airport. Fair Market Value (FMV) will be obtained from the land sale and reinvested back in the airport.

Any person may inspect the request by appointment at the FAA office address listed above. Interested persons are invited to comment on the proposed release from obligations. All comments will be considered by the FAA to the extent practicable.

Issued in Camp Hill, Pennsylvania, April 1, 2011.
Lori K. Pagnanelli,
Manager, Harrisburg Airports District Office.

[FR Doc. 2011-8268 Filed 4-6-11; 8:45 am]

BILLING CODE 4910-13-P